DEPARTMENT OF ENERGY

Federal Energy Regulatory Commission

Notice of Staff Attendance at Southwest Power Pool Regional State Committee Meeting and Southwest Power Pool Board of Directors Meeting

October 7, 2010.

The Federal Energy Regulatory Commission (Commission) hereby gives notice that members of its staff may attend the meetings of the Southwest Power Pool, Inc. (SPP) Regional State Committee, and SPP Board of Directors, as noted below. Their attendance is part of the Commission's ongoing outreach efforts.

SPP Regional Entity Trustee Meeting

October 25, 2010 (8:30 a.m.-2 p.m.) Kansas City Marriott Downtown, 200 West 12th Street, Kansas City, MO 64105, 816-421-6800.

SPP Regional State Committee Meeting

October 25, 2010 (1 p.m.-5 p.m.). Kansas City Marriott Downtown, 200 West 12th Street, Kansas City, MO 64105, 816-421-6800.

SPP Board of Directors and Annual Meeting of Members

October 26, 2010 (8 a.m.-3 p.m.). Kansas City Marriott Downtown, 200 West 12th Street, Kansas City, MO 64105, 816-421-6800.

The discussions may address matters at issue in the following proceedings:

Docket No. ER06-451, Southwest Power Pool, Inc.

Docket No. ER08-1419, Southwest Power Pool, Inc.

Docket No. ER09-35, Tallgrass Transmission LLC

Docket No. ER09-36, Prairie Wind Transmission LLC

Docket No. ER09-659, Southwest Power Pool, Inc.

Docket No. ER09-1050, Southwest Power Pool, Inc.

Docket No. ER09-1254, Southwest Power Pool, Inc.

Docket No. OA08-61, Southwest Power Pool, Inc.

Docket No. OA08-104, Southwest Power Pool, Inc.

Docket No. ER10-45, Southwest Power Pool, Inc.

Docket No. ER10-696, Southwest Power Pool, Inc.

Docket No. ER10-941, Southwest Power Pool, Inc.

Docket No. ER10-1069, Southwest Power Pool, Inc.

Docket No. ER10-1254, Southwest Power Pool, Inc.

Docket No. ER10-1269, Southwest Power Pool, Inc.

Docket No. ER10-1697, Southwest Power Pool, Inc.

Docket No. ER10-1960, Southwest Power Pool, Inc.

Docket No. ER10-2145, Southwest Power Pool, Inc.

Docket No. ER10-2416, Southwest Power Pool, Inc.

Docket No. ER10-2451, Southwest Power Pool, Inc.

Docket No. ER10-2452, Southwest Power Pool, Inc.

Docket No. ER10-2483, Southwest Power Pool, Inc.

Docket No. ER10-2489, Southwest Power Pool, Inc.

Docket No. ER10-2608, Southwest Power Pool, Inc.

These meetings are open to the public.

For more information, contact Patrick Clarey, Office of Energy Market Regulation, Federal Energy Regulatory Commission at (317) 249-5937 or patrick.clarey@ferc.gov.

Kimberly D. Bose,
Secretary.

[FR Doc. 2010-25959 Filed 10-14-10; 8:45 am]

BILLING CODE 6717-01-P